DEPARTMENT OF HEALTH AND HUMAN SERVICES

Administration for Children and Families

Submission for OMB Review; Comment Request

Title: Compassion Capital Fund Evaluation—Initial Outcome Study.

OMB No.: New Collection.

Description: This proposed information collection activity is for an initial outcome study that is one component of the evaluation of the Compassion Capital Fund (CCF) program. The information collection will be through mailed surveys to be completed by selected faith-based and community organizations that received sub-awards from CCF grantees. The CCF grantees are intermediary organizations that provide capacity building services to faith-based and community organizations.

The CCF evaluation is an important opportunity to examine the outcomes and effectiveness of the Compassion Capital Fund in meeting its objective of improving the capacity of faith-based and community organizations. This initial outcome study component of the evaluation will involve approximately 180 faith-based and community organizations. Information will be sought from these organizations to assess change and improvement in various areas of capacity resulting from receipt of sub-awards.

Respondents: The respondents will be selected faith-based and community organizations that received sub-awards in 2003 from nine selected CCF intermediary grantees. The surveys will be self-administered.

Annual Burden Estimates
Instrument | Number of respondents | Number of responses per respondent | Average burden hours per response | Total burden hours
Faith-based and Community Org. Survey | 180 | 1 | .33 hours (20 minutes) | 60
Estimated total annual burden hours | 180 |  |  | 60

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: October 24, 2005.
Robert Sargis,
Reports Clearance Officer.

[FR Doc. 05-21596 Filed 10-28-05; 8:45 am]

BILLING CODE 4184-01-M